ENVIRONMENTAL PROTECTION AGENCY

[FRL-6859-7]

Regulatory Reinvention (XL) Pilot Projects

AGENCY: Environmental Protection Agency (EPA).

ACTION: Notice of Availability of the Project XL Draft Final Project Agreement for the Louisville and Jefferson County Metropolitan Sewer District.

SUMMARY: EPA is requesting comments on a Draft Project XL Final Project Agreement (FPA) for the Louisville and Jefferson County Metropolitan Sewer District's (MSD) Jeffersontown Sewershed/Chenoweth Run Watershed Pretreatment Reinvention Project. The FPA is a voluntary agreement developed collaboratively by MSD, stakeholders, the state of Kentucky, and EPA. Project XL, announced in the Federal Register on May 23, 1995 (60 FR 27282), gives regulated entities the flexibility to develop alternative strategies that will replace or modify specific regulatory or procedural requirements on the condition that they produce greater environmental benefits.

In the draft FPA, MSD's proposed project for the Jeffersontown Wastewater Treatment Plant (WWTP) pretreatment program consists of three phases. Phase 1 consists of data collection and development of Pretreatment Program Performance Measures. In order to achieve the project goals, MSD's approach is to develop a strong safety net, namely, Pretreatment Performance Measures, and then use the baseline data to target the resources where the most significant environmental improvements can be achieved. Development and use of the proposed performance measures has required MSD to conduct extensive monitoring and analysis (more than the current program requires) and to make comparisons to environmental criteria. The information gathered for performance measures has already proven to be of great value in understanding the loadings patterns in the system. The data also provides MSD with a technical basis for determining risk potential of various pollutant sources.

Phase 2 consists of pretreatment program redevelopment in the Jeffersontown WWTP Sewershed. In this phase, MSD and Stakeholders have worked closely together to define the criteria for redevelopment of the pretreatment program. The elements of redevelopment include: criteria for pollutants of concern, regulatory revisions, superior environmental performance, and project accountability.

Phase 3 will be program implementation. In this phase, the baseline monitoring data (from Phase 1) and the criteria for redevelopment (from Phase 2) will be used to determine the site specific applications to the Jeffersontown Sewershed/Chenoweth Run Watershed pretreatment program. Once the proposed regulatory revisions are made effective with re-issuance of the Jeffersontown Wastewater Treatment Plant (WWTP) NPDES permit, resources will be reallocated according to a specific Prioritization Strategy.

The first and second phases of the project were completed during the Phase 1 Agreement, which was published for notice and comment in the Federal Register on December 14, 1999. This Final Project Agreement will allow implementation of the third phase of this project.

A rulemaking setting forth regulatory flexibility to enable implementation of this project will also be developed in the future and will ensure that the project fully comply with applicable federal requirements under the Clean Water Act. Opportunities for public comment will be provided once the rule has been drafted.

DATES: The period for submission of comments ends on September 12, 2000.

ADDRESSES: All comments on the draft Final Project Agreement should be sent to: Melinda Greene, USEPA REGION 4, 61 Forsyth Street, S.W., Atlanta, GA 30303-8960. Comments may also be faxed to Ms. Greene at (404) 562-9728. Comments will also be received via electronic mail sent to: mallard.melinda@epa.gov.

FOR FURTHER INFORMATION CONTACT: To obtain a copy of the draft Final Project Agreement, contact: Melinda Greene, USEPA REGION 4, 61 Forsyth Street, S.W., Atlanta, GA 30303-8960. The document is also available via the Internet at the following location: “http://www.epa.gov/ProjectXL”. In addition, public files on the Project are located at EPA Region 4 in Atlanta. Questions to EPA regarding the documents can be directed to Melinda Greene at (404) 562-9771, or Chad Carbone at (202) 260-4296. Additional information on Project XL, including documents referenced in this notice, other EPA policy documents related to Project XL, application information, and descriptions of existing XL projects and proposals, is available via the Internet at “http://www.epa.gov/ProjectXL'.

Dated: August 23, 2000.
Elizabeth A. Shaw,
Director, Office of Environmental Policy Innovation.

[FR Doc. 00-22052 Filed 8-28-00; 8:45 am]

BILLING CODE 6560-50-P